DEPARTMENT OF DEFENSE

Department of the Army

Notice of Intent To Grant an Exclusive or Partially Exclusive License to Paratek Microwave, Inc.

AGENCY: U.S. Army Research Laboratory (ARL), DoD.

ACTION: Notice of intent.

SUMMARY: In compliance with 37 CFR 404 et seq., the Department of the Army hereby gives notice of its intent to grant to Paratek Microwave, Inc., a corporation having its principle place of business at 6935N Oakland Mills Rd., Columbia, MD 21045, an exclusive license relative to a patented ARL technology (U.S. Patent #5,427,988, Sengupta, et al.; June 27, 1995; Ceramic Ferroelectric Composite Material—BSTO-MgO). Anyone wishing to object to the granting of this license has 15 days from the date of this notice to file written objections along with supporting evidence, if any.

FOR FURTHER INFORMATION CONTACT: Michael D. Rausa, U.S. Army Research Laboratory, Office of Research and Technology Applications. ATTN: AMSRL-CS-TT/Bldg. 459, Aberdeen Proving Ground, Maryland 21005-5425, Telephone: (410) 278-5028.

SUPPLEMENTARY INFORMATION: None.

Luz D. Ortiz,
Army Federal Register Liaison Officer.

[FR Doc. 01-12491 Filed 5-16-01; 8:45 am]

BILLING CODE 3710-08-M